DEPARTMENT OF HEALTH AND HUMAN SERVICES

[Document Identifier: OS-0937-0191]

Agency Information Collection Request. 60-Day Public Comment Request

AGENCY: Office of the Secretary.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: Application Packets for Real Property for Public Health Purposes—OMB No. 0937-0191—Revision-Program Support Center.

Abstract: The Federal Property Assistance Program is requesting a 3 year approval for a previously approved collection. Annually, HHS receives approximately 20 applications from eligible groups which include state and local governments as well as nonprofit institutions. The eligible groups are applying for acquisition of excess/surplus, underutilized/unutilized, and/or off-site Federal real property. The applications are used to determine if institutions or organizations are eligible to purchase, lease, or use property under the provisions of the surplus real property program.

Estimated Annualized Burden Table
Type of respondent | Number of respondents | Number of responses per respondent | Average burden per response (in hours) | Total burden hours
State, local, or tribal governments, nonprofits | 20 | 1 | 200 | 4,000

Dated: December 7, 2007.
John Teeter,
Office of the Secretary, Paperwork Reduction Act Reports Clearance Officer.

[FR Doc. E7-24235 Filed 12-13-07; 8:45 am]

BILLING CODE 4150-37-P